DEPARTMENT OF TRANSPORTATION

Federal Aviation Administration

14 CFR Part 39

[Docket No. FAA-05-20399; Directorate Identifier 2005-CE-02-AD; Amendment 39-13988; AD 2005-04-16]

RIN 2120-AA64

Airworthiness Directives; Pilatus Aircraft Ltd. Models PC-12 and PC-12/45 Airplanes

AGENCY: Federal Aviation Administration (FAA), DOT.

ACTION: Final rule; request for comments.

SUMMARY: The FAA is adopting a new airworthiness directive (AD) for certain Pilatus Aircraft Ltd. Models PC-12 and PC-12/45 airplanes. This AD requires you to do a one-time inspection of the windshield de-ice wiring system for heat damage and incorrect wire sizes and to replace any wires that are damaged or the incorrect size. This AD results from mandatory continuing airworthiness information (MCAI) issued by the airworthiness authority for Switzerland. We are issuing this AD to detect and replace windshield de-ice wiring of the incorrect size, which could result in heat damage of the windshield de-ice wiring. This failure could lead to possible fire in the overhead panel of the flight compartment.

DATES: This AD becomes effective on March 8, 2005.

As of March 8, 2005, the Director of the Federal Register approved the incorporation by reference of certain publications listed in the regulation.

We must receive any comments on this AD by April 19, 2005.

ADDRESSES: Use one of the following to submit comments on this AD:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-001.

• Fax: 1-202-493-2251.

• Hand Delivery: Room PL-401 on the plaza level of the Nassif Building, 400 Seventh Street, SW., Washington, DC, between 9 a.m. and 5 p.m., Monday through Friday, except Federal holidays.

To get the service information identified in this AD, contact Pilatus Aircraft Ltd., CH-6371 Stans, Switzerland.

To view the comments to this AD, go to http://dms.dot.gov. The docket number is FAA-05-20399; Directorate Identifier 2005-CE-02-AD.

FOR FURTHER INFORMATION CONTACT: Doug Rudolph, Aerospace Engineer, ACE-112, Small Airplane Directorate, 901 Locust, Room 301, Kansas City, Missouri 64106; telephone: (816) 329-4059; facsimile: (816) 329-4090.

SUPPLEMENTARY INFORMATION:

Discussion

What events have caused this AD? The Federal Office of Civil Aviation (FOCA), which is the airworthiness authority for Switzerland, recently notified FAA that an unsafe condition may exist on certain Pilatus Aircraft Ltd. Models PC-12 and PC-12/45 airplanes. FOCA reports a co-pilot windshield de-ice system failure, which was caused by an overheated return wire in the windshield heating system. Investigation revealed that the wiring in the windshield heating system was not installed following the specifications in the applicable wiring diagrams.

What is the potential impact if FAA took no action? Windshield de-ice wiring of the incorrect size could result in heat damage of the windshield de-ice wiring. This failure could lead to possible fire in the overhead panel of the flight compartment.

Is there service information that applies to this subject? Pilatus Aircraft Ltd. has issued Service Bulletin No. 30-009, dated January 25, 2005.

What are the provisions of this service information? The service bulletin includes procedures for:

—Inspecting the wires installed in the windshield de-ice system to make sure they are the correct size (American Wire Gage) as specified in the applicable wiring diagrams;

—Inspecting the wires, splices, and related link wires in the terminal block (TB 152) for any heat damage; and

—Replacing all damaged or incorrect sized wires.

What action did FOCA take? FOCA classified this service bulletin as mandatory and issued Swiss AD Number HB-2005-079, dated February 11, 2005, to ensure the continued airworthiness of these airplanes in Switzerland.

Did FOCA inform the United States under the bilateral airworthiness agreement? These Pilatus Aircraft Ltd. Models PC-12 and PC-12/45 airplanes are manufactured in Switzerland and are type-certificated for operation in the United States under the provisions of § 21.29 of the Federal Aviation Regulations (14 CFR 21.29) and the applicable bilateral airworthiness agreement.

Under this bilateral airworthiness agreement, FOCA has kept us informed of the situation described above.

FAA's Determination and Requirements of This AD

What has FAA decided? We have examined FOCA's findings, reviewed all available information, and determined that we need to issue an AD for products of this type design that are certificated for operation in the United States.

Since the unsafe condition described previously is likely to exist or develop on other Pilatus Aircraft Ltd. Models PC-12 and PC-12/45 airplanes of the same type design that are registered in the United States, we are issuing this AD to detect and replace windshield de-ice wiring of the incorrect size, which could result in heat damage of the windshield de-ice wiring. This failure could lead to possible fire in the overhead panel of the flight compartment.

What does this AD require? This AD requires you to incorporate the actions in the previously-referenced service bulletin.

In preparing this rule, we contacted type clubs and aircraft operators to get technical information and information on operational and economic impacts. We did not receive any information through these contacts. If received, we would have included a discussion of any information that may have influenced this action in the rulemaking docket.

How does the revision to 14 CFR part 39 affect this AD? On July 10, 2002, we published a new version of 14 CFR part 39 (67 FR 47997, July 22, 2002), which governs FAA's AD system. This regulation now includes material that relates to altered products, special flight permits, and alternative methods of compliance. This material previously was included in each individual AD. Since this material is included in 14 CFR part 39, we will not include it in future AD actions.

Comments Invited

Will I have the opportunity to comment before you issue the rule? This AD is a final rule that involves requirements affecting flight safety and was not preceded by notice and an opportunity for public comment; however, we invite you to submit any written relevant data, views, or arguments regarding this AD. Send your comments to an address listed under ADDRESSES. Include the docket number, “FAA-05-20399; Directorate Identifier 2005-CE-02-AD” at the beginning of your comments. We will post all comments we receive, without change, to http://dms.dot.gov, including any personal information you provide. We will also post a report summarizing each substantive verbal contact with FAA personnel concerning this AD.

Using the search function of our docket Web site, anyone can find and read the comments received into any of our dockets, including the name of the individual who sent the comment (or signed the comment on behalf of an association, business, labor union, etc.). This is docket number FAA-05-20399; Directorate Identifier 2005-CE-02-AD. You may review the DOT's complete Privacy Act Statement in the Federal Register published on April 11, 2000 (65 FR 19477-78) or you may visit http://dms.dot.gov.

Are there any specific portions of this AD I should pay attention to? We specifically invite comments on the overall regulatory, economic, environmental, and energy aspects of this AD. If you contact us through a nonwritten communication and that contact relates to a substantive part of this AD, we will summarize the contact and place the summary in the docket. We will consider all comments received by the closing date and may amend this AD in light of those comments and contacts.

Docket Information

Where can I go to view the docket information? You may view the AD docket that contains the AD, any comments received, and any final disposition in person at the DMS Docket Offices between 9 a.m. and 5 p.m. (eastern standard time), Monday through Friday, except Federal holidays. The Docket Office (telephone 1-800-647-5227) is located on the plaza level of the Department of Transportation NASSIF Building at the street address stated in ADDRESSES. You may also view the AD docket on the Internet at http://dms.dot.gov. The comments will be available in the AD docket shortly after the DMS receives them.

Authority for This Rulemaking

What authority does FAA have for issuing this rulemaking action? Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

Will this AD impact various entities? We have determined that this AD will not have federalism implications under Executive Order 13132. This AD will not have a substantial direct effect on the States, on the relationship between the national government and the States, or on the distribution of power and responsibilities among the various levels of government.

Will this AD involve a significant rule or regulatory action? For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary by sending a request to us at the address listed under ADDRESSES. Include “Docket No. FAA-05-20399; Directorate Identifier 2005-CE-02-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2005-04-16 Pilatus Aircraft Ltd.: Amendment 39-13988; Docket No. FAA-05-20399; Directorate Identifier 2005-CE-02-AD.

When Does This AD Become Effective?

(a) This AD becomes effective on March 8, 2005.

Are Any Other ADs Affected by This Action?

(b) None.

What Airplanes Are Affected by This AD?

(c) This AD affects airplane Models PC-12 and PC-12/45 airplanes with serial numbers 322 through 400 that are certificated in any category.

What Is the Unsafe Condition Presented in This AD?

(d) This AD is the result of mandatory continuing airworthiness information (MCAI) issued by the airworthiness authority for Switzerland. We are issuing this AD to detect and replace windshield de-ice wiring of the incorrect size, which could result in heat damage of the windshield de-ice wiring. This failure could lead to possible fire in the overhead panel of the flight compartment.

What Must I Do To Address This Problem?

(e) To address this problem, you must do the following:

Actions | Compliance | Procedures
(1) Inspect the windshield de-ice wiring on both the left and right side windshields for heat damage of the wires, splices, and related link wires in the area of the terminal block 152 (TB 152) | Within 10 hours time-in-service (TIS) or 30 days, whichever occurs first, after March 8, 2005 (the effective date of this AD). This is a one-time inspection | Follow Pilatus Aircraft Ltd. Service Bulletin No. 30-009, dated January 25, 2005.
(2) Inspect the windshield deice wiring and related link wires on both the left and right side windshields to verify that wires of the correct size (American Wire Gage) are installed as specified in Service Bulletin 30-009, dated January 25, 2005 | Within 10 hours TIS or 30 days, whichever occurs first, after March 8, 2005 (the effective date of this AD). This is a one-time inspection | Follow Pilatus Aircraft Ltd. Service Bulletin No. 30-009, dated January 25, 2005.
(3) If any heat damage or incorrect wiring is found, replace the damaged or incorrect wires | Before further flight | Follow Pilatus Aircraft Ltd. Service Bulletin No. 30-009, dated January 25, 2005.

May I Request an Alternative Method of Compliance?

(f) You may request a different method of compliance or a different compliance time for this AD by following the procedures in 14 CFR 39.19. Unless FAA authorizes otherwise, send your request to your principal inspector. The principal inspector may add comments and will send your request to the Manager, Standards Office, Small Airplane Directorate, FAA. For information on any already approved alternative methods of compliance, contact Doug L. Rudolph, Aerospace Engineer, ACE-112, Small Airplane Directorate, 901 Locust, Room 301, Kansas City, Missouri 64106; telephone: (816) 329-4059; facsimile: (816) 329-4090.

Is There Other Information That Relates to This Subject?

(g) FOCA Airworthiness Directive HB-2005-079, dated February 11, 2005, also addresses the subject of this AD.

Does This AD Incorporate Any Material by Reference?

(h) You must do the actions required by this AD following the instructions in Pilatus Aircraft Ltd. Service Bulletin No. 30-009, dated January 25, 2005. The Director of the Federal Register approved the incorporation by reference of this service bulletin in accordance with 5 U.S.C. 552(a) and 1 CFR part 51. You may get a copy from Pilatus Aircraft Ltd., CH-6371 Stans, Switzerland. To get a copy of this service information, contact Doug Rudolph, Aerospace Engineer, ACE-112, Small Airplane Directorate, 901 Locust, Room 301, Kansas City, Missouri 64106; telephone: (816) 329-4059; facsimile: (816) 329-4090. To review copies of this service information, go to the National Archives and Records Administration (NARA). For information on the availability of this material at NARA, go to: http://www.archives.gov/federal_register/code_of_federal_regulations/ibr_locations.html or call (202) 741-6030. To view the AD docket, go to the Docket Management Facility; U.S. Department of Transportation, 400 Seventh Street, SW., Nassif Building, Room PL-401, Washington, DC 20590-001 or on the Internet at http://dms.dot.gov. The docket number is Docket No. FAA-05-20399; Directorate Identifier 2005-CE-02-AD.

Issued in Kansas City, Missouri, on February 17, 2005.
David R. Showers,
Acting Manager, Small Airplane Directorate, Aircraft Certification Service.

[FR Doc. 05-3634 Filed 2-28-05; 8:45 am]

BILLING CODE 4910-13-P